DEPARTMENT OF COMMERCE

National Oceanic and Atmospheric Administration

[RTID 0648-XE790]

Pacific Island Fisheries; Western Pacific Stock Assessment Review; Public Meeting

AGENCY: National Marine Fisheries Service (NMFS), National Oceanic and Atmospheric Administration (NOAA), Commerce.

ACTION: Notice; public meeting.

SUMMARY: The Western Pacific Fishery Management Council (Council) and NMFS will convene a Western Pacific Stock Assessment Review (WPSAR) of a stock assessment update for the multispecies bottomfish complex in the Commonwealth of the Northern Mariana Islands (CNMI). The review will be conducted virtually. A satellite location will be made available for the public to view the review process and Council staff will be available in-person to answer questions. See ADDRESSES for the web address to access the meeting and the location of the satellite viewing site.

DATES: The WPSAR meeting will be held between April 2 and April 3, 2025 (April 3 and 4, Chamorro Standard). See SUPPLEMENTARY INFORMATION for meeting dates and times and the daily agenda.

ADDRESSES: The meeting will be held by web conference via WebEx. Audio and visual portions for all of the web conferences can be accessed at: https://www.wpcouncil.org. Web conference access information and instructions for providing public comments will be posted on the Council website at www.wpcouncil.org. For assistance with the web conference connection, contact the Council office at (808) 552-8220.

The satellite viewing site for the WPSAR review is located at the Council office in the CNMI: Kopa Di Oru St., 1182 BRI Bldg., Suite 205, Garapan, Saipan MP 96950.

FOR FURTHER INFORMATION CONTACT: Kitty M. Simonds, Executive Director, Western Pacific Fishery Management Council; telephone: (808) 522-8220.

SUPPLEMENTARY INFORMATION: The NMFS Pacific Islands Fisheries Science Center (PIFSC) conducted a stock assessment update for bottomfish management unit species (BMUS) in the U.S. jurisdiction of CNMI. PIFSC previously conducted a 2019 benchmark stock assessment for the CNMI bottomfish stock complex using a Bayesian surplus production model based on data through 2017. The 2019 assessment incorporated improvements to data standardization and model assumptions that followed recommendations from the review panel for the 2015 assessment for the same stock. PIFSC used production models to estimate biomass and stock status through time, and to evaluate stock status against maximum sustainable yield-based reference points set in the fishery ecosystem plan (FEP) for the Mariana Archipelago, which includes CNMI. Based on the results of the 2019 assessment, NMFS determined the stock not overfished and not experiencing overfishing.

The 2025 assessment update that will be reviewed in April used the methodology of the 2019 benchmark assessment and updated it with data through 2023. The 2025 assessment update will provide new information to inform management, including updates on biomass and fishing mortality relative to status determination thresholds to evaluate rebuilding progress, and projections to inform recommendations of allowable biological catch and annual catch limits.

Meeting Agenda for WPSAR Review

The meeting schedule and agenda are as follows:

Wednesday, April 2, 2025 (1-5 p.m. Hawaii Standard Time)/Thursday, April 3, 2025 (9 a.m.-1 p.m. Chamorro Standard Time)

1. Introduction

2. Review objectives and terms of reference

3. Review of stock assessment updates

4. Summary of comments and analysis during desktop phase

5. Questions to presenters

6. Public comment

Thursday, April 3, 2025 (1-5 p.m. Hawaii Standard Time)/Friday, April 4, 2025 (9 a.m.-1 p.m. Chamorro Standard Time)

7. Panel presentation on the review results and recommendations

8. Questions to reviewers

9. Public comment

10. Closing comments and adjourn

The agenda order may change. The meeting will run as late as necessary to complete scheduled business.

Special Accommodations

These meetings are physically accessible to people with disabilities. Please direct requests for sign language interpretation or other auxiliary aids to Kitty M. Simonds, (808) 522-8220 (voice) or (808) 522-8226 (fax), at least 5 days prior to the meeting date.

Authority: 16 U.S.C. 1801 et seq.

Dated: March 17, 2025.
Rey Israel Marquez,
Acting Deputy Director, Office of Sustainable Fisheries, National Marine Fisheries Service.

[FR Doc. 2025-04792 Filed 3-19-25; 8:45 am]

BILLING CODE 3510-22-P